DEPARTMENT OF THE INTERIOR

Bureau of Land Management

[CACA-048669, LLCAD09000, L51010000.LVRWB09B2380.ER0000]

Notice of Availability of the Record of Decision for the Stateline Solar Farm Project and California Desert Conservation Area Plan Amendment, San Bernardino County, California

AGENCY: Bureau of Land Management, Interior.

ACTION: Notice of availability.

SUMMARY: The Bureau of Land Management (BLM) announces the availability of the Record of Decision (ROD)/Approved Amendment to the California Desert Conservation Area Plan (CDCA Plan) for the Stateline Solar Farm Project (SSFP). The Principal Deputy Assistant Secretary, Land and Minerals Management, approved the ROD on February 14, 2014, which constitutes the final decision of the Department.

ADDRESSES: Copies of the ROD/Approved Amendment to the CDCA Plan are available upon request from the BLM Field Manager, Needles Field Office, 1303 S. Highway 95, Needles, CA 92363, and at the California Desert District Office, 22835 Calle San Juan de Los Lagos, Moreno Valley, CA 92553, or via the Internet at the following Web site: http://www.blm.gov/ca/st/en/fo/needles/stateline_solar_farm.html.

FOR FURTHER INFORMATION CONTACT: Jeffery Childers, BLM Project Manager, telephone, 951-697-5308; mail, BLM California Desert District Office, 22835 Calle San Juan de Los Lagos, Moreno Valley, CA 92553-9046; or email jchilders@blm.gov.

Persons who use a telecommunications device for the deaf (TDD) may call the Federal Information Relay Service (FIRS) at 1-800-877-8339 to contact Mr. Childers during normal business hours. The FIRS is available 24 hours a day, 7 days a week, to leave a message or question for Mr. Childers. You will receive a reply during normal business hours.

SUPPLEMENTARY INFORMATION: The applicant, First Solar Development, LLC, filed an application for a right-of-way (ROW) grant authorization to construct, operate, maintain and decommission the 300-Megawatt (MW) photovoltaic Stateline Solar Farm Project (SSFP). The proposed project includes access roads, photovoltaic arrays, an electrical substation, meteorological station, monitoring and maintenance facility, water wells, and a 2.3 mile generation tie-line on up to 2,143 acres. The project location is in San Bernardino County approximately 2 miles south of the Nevada-California border and 0.5 miles west of Interstate 15.

The Agency-Selected Alternative consists of a 300-MW solar PV facility encompassing 1,685 acres on a single, contiguous footprint, which was described in the Final EIS as the Revised Alternative 3: 1,685 Acre Alternative.

The project site is located in the California Desert District within the planning boundary of the CDCA Plan, which is the applicable resource management plan for the project site and surrounding areas. The CDCA Plan, while recognizing the potential compatibility of solar energy generation facilities with other uses on public lands, requires that all sites associated with power generation or transmission not already identified in the Plan be considered through the BLM's land use plan amendment process. As a result, prior to approval of a ROW grant for the SSFP, the BLM must amend the CDCA Plan to allow the solar energy generating project on that site. The approved Amendment to the CDCA Plan specifically revises the CDCA Plan to allow for the development of the SSFP and ancillary facilities on land managed by the BLM.

A Notice of Availability of the proposed plan amendment/final EIS for the SSFP was published in the Federal Register on November 15, 2013 (78 FR 68860). Publication of the Notice of Availability for the plan amendment/final EIS initiated a 30-day protest period for the proposed amendment to the CDCA Plan. At the close of the 30-day period, seven timely and complete written protests were received and thereafter resolved. Their resolution is summarized in the Director's Protest Summary Report attached to the ROD. While the Director's resolution of protests did not identify any issues to be remanded, the BLM made minor corrections and clarifying statements as a result of protests.

Simultaneously with the protest period, the Governor of California conducted a 30-day consistency review of the proposed plan amendment to identify any inconsistencies with State or local plan, policies or programs; no inconsistencies were identified.

Because this decision is approved by the Secretary of the Interior, it is not subject to administrative appeal (43 CFR 4.410(a)(3)).

Authority: 40 CFR 1506.6.

Neil Kornze,
Principal Deputy Director.

[FR Doc. 2014-03678 Filed 2-20-14; 8:45 am]

BILLING CODE 4310-40-P